DEPARTMENT OF ENERGY

Federal Energy Regulatory Commission

[Project No. 7919-004]

Eric and Debbie Wattenburg, William Shelton; Notice of Transfer of Exemption

1. By letter filed June 6, 2017, Eric and Debbie Wattenburg informed the Commission that the exemption from licensing for the Gansner Power and Water Project No. 7919, originally issued July 3, 1984 ¹ has been transferred to William Shelton. The project is located on Gansner Creek in Plumas County, California. The transfer of an exemption does not require Commission approval.

¹ Order Granting Exemption from Licensing for a Conduit Hydroelectric Project. LeRoy Austin and Kathleen Austin, 28 FERC 62,004 (1984).

2. William Shelton is now the exemptee of the Gansner Power and Water Project No. 7919. All correspondence should be forwarded to: Mr. William Shelton, Owner, P.O. Box 541, Durham, CA 95938, Phone 530-898-1937, Email: billshelton@chico.net.

Dated: August 15, 2017.
Kimberly D. Bose,
Secretary.

[FR Doc. 2017-17559 Filed 8-18-17; 8:45 am]

BILLING CODE 6717-01-P